DEPARTMENT OF TRANSPORTATION

Federal Aviation Administration

14 CFR Part 73

[Docket No. FAA-2016-9591; Airspace Docket No. 16-ASW-21]

Establishment of Temporary Restricted Area R-5602; Fort Sill, OK

AGENCY: Federal Aviation Administration (FAA), DOT.

ACTION: Temporary final rule.

SUMMARY: This action establishes temporary restricted area R-5602, over the Fort Sill, OK, R-5601 restricted area complex, to support the U.S. Army Maneuver & Fires Integration Experiment (MFIX) 2018 scheduled for December 2017. MFIX 2018 is planned to exercise hazardous laser operations conducting counter unmanned aircraft systems (UAS) activities. The temporary restricted area will be in effect from December 4 through December 15, 2017.

DATES: Effective date 0901 UTC, December 4, 2017, through December 15, 2017.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes temporary restricted airspace at Fort Sill, OK, enhancing safety and accommodating essential military training during the U.S. Army's MFIX 2018 exercise being held December 4 through 15, 2017.

History

On February 23, 2017, the FAA published in the Federal Register a notice of proposed rulemaking (NPRM) (82 FR 11417), Docket No. FAA-2016-9591, to establish a temporary restricted area designated to support hazardous training activities conducted during MFIX 2018 within the Fort Sill, OK, special use airspace (SUA) complex. Interested parties were invited to participate in this rulemaking effort by submitting written comments on the proposal. No comments were received.

The Rule

The FAA is amending 14 CFR part 73 to establish temporary restricted area R-5602 in support of MFIX 2018 during the period of December 4 through 15, 2017, to contain hazardous laser activities demonstrating counter UAS capabilities. To effectively segregate nonparticipant air traffic from the hazardous activities associated with MFIX 2018 at Fort Sill, OK, the R-5602 lateral boundaries overlie the R-5601A, R-5601B, and a portion of R-5601F restricted areas and extend approximately 8 nautical miles (NM) east beyond the R-5601A and R-5601F eastern boundaries. R-5602 extends upward from 40,000 feet mean sea level (MSL) to 60,000 feet MSL, is activated daily by a Notice to Airmen (NOTAM), and is in effect only during the period of December 4 through December 15, 2017. This rule adds “daily” to the “Time of designation” for clarity.

Since R-5602 is a temporary area, it will not be depicted on the Dallas-Ft. Worth Sectional Aeronautical Chart or the IFR Enroute High Altitude Chart, H-6. However, a notice and graphic depiction will be published on the FAA's SUA Web site at http://www.faa.gov/sua and in the Notices to Airmen Publication (NTAP) available online at http://www.faa.gov/air_traffic/publications/notices/.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of establishing a temporary restricted area R-5602 which partially overlays portions of the R-5601 restricted area complex at Fort Sill, OK, qualifies for FAA adoption in accordance with FAA Order 1050.1F, paragraphs 8-2 and 9-2, Adoption of Other Agencies' National Environmental Policy Act Documents, and Written Re-evaluations, and 7400.2L, paragraph 32-2-3. The purpose of temporarily creating and utilizing the temporary Restricted Area (RA) is to safely segregate private and commercial aircraft from above-the-horizon hazardous laser activities while supporting the U.S. Army MFIX 2018 planned for November 27 through December 15, 2017 (the proposed temporary RA R-5602 would be active from December 4 through 15, 2017). The FAA, after conducting an independent review and evaluation of the United States Army's August 2017 Final Supplemental Environmental Assessment for the Temporary Creation and Utilization of Restricted Area R-5602 at Fort Sill, Oklahoma, has determined that the Army's Supplemental EA and its supporting documentation adequately assesses and discloses the environmental impacts of the proposed action, including evaluation of the establishment of airspace for temporary restricted airspace area R-5602. Based on the evaluation for potential environmental impact in the above-mentioned EA, the FAA, as the Cooperating Agency, concluded that adoption of the EA for the Temporary Creation and Utilization of Restricted Area R-5602 is authorized in accordance with 40 CFR 1506.3, Adoption. Accordingly, FAA adopts the Army's Supplemental EA and takes full responsibility for the scope and content that address the FAA's airspace establishment action.

List of Subjects in 14 CFR Part 73

Airspace, Prohibited areas, Restricted areas.

The Proposed Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.56 Oklahoma (Amended)

2. § 73.56 is amended as follows:

* * * * *

R-5602 Fort Sill, OK [Temporary]

Boundaries. Beginning at lat. 34°49′30″ N., long. 98°08′43″ W.; to lat. 34°36′36″ N., long. 98°08′43″ W.; to lat. 34°36′36″ N., long. 98°17′01″ W.; to lat. 34°38′15″ N., long. 98°17′01″ W.; to lat. 34°38′15″ N., long. 98°37′57″ W.; to lat. 34°40′54″ N., long. 98°37′56″ W.; to lat. 34°42′07″ N., long. 98°37′20″ W.; to lat. 34°43′21″ N., long. 98°36′02″ W.; to lat. 34°43′30″ N., long. 98°35′40″ W.; to lat. 34°45′03″ N., long. 98°29′46″ W.; to lat. 34°46′15″ N., long. 98°25′01″ W.; to lat. 34°47′00″ N., long. 98°17′46″ W.; to lat. 34°46′45″ N., long. 98°17′01″ W.; to lat. 34°49′30″ N., long. 98°17′01″ W.; to the point of beginning.

Designated altitudes. 40,000 feet MSL to 60,000 feet MSL.

Time of designation. December 4-15, 2017, daily, by NOTAM.

Controlling agency. FAA, Fort Worth ARTCC.

Using agency. U.S. Army, Commanding General, U.S. Army Fires Center of Excellence, Fort Sill, OK.

Issued in Washington, DC, on September 22, 2017.
Rodger A. Dean, Jr.,
Manager, Airspace Policy Group.

[FR Doc. 2017-20954 Filed 9-29-17; 8:45 am]

BILLING CODE 4910-13-P